DEPARTMENT OF THE INTERIOR

National Park Service

[NPS-WASO-NAGPRA-NPS0033083; PPWOCRADN0-PCU00RP14.R50000]

Notice of Intent To Repatriate Cultural Items: The Field Museum of Natural History, Chicago, IL

AGENCY: National Park Service, Interior.

ACTION: Notice.

SUMMARY: The Field Museum of Natural History (Field Museum), in consultation with the appropriate Indian Tribes or Native Hawaiian organizations, has determined that the cultural item listed in this notice meets the definition of an unassociated funerary object. Lineal descendants or representatives of any Indian Tribe or Native Hawaiian organization not identified in this notice that wish to claim this cultural item should submit a written request to the Field Museum. If no additional claimants come forward, transfer of control of the cultural item to the lineal descendants, Indian Tribes, or Native Hawaiian organizations stated in this notice may proceed.

DATES: Lineal descendants or representatives of any Indian Tribe or Native Hawaiian organization not identified in this notice that wish to claim this cultural item should submit a written request with information in support of the claim to the Field Museum at the address in this notice by January 10, 2022.

FOR FURTHER INFORMATION CONTACT: Helen Robbins, Director of Repatriation, The Field Museum, 1400 S Lake Shore Drive, Chicago, IL 60605, telephone (312) 665-7317, email hrobbins@fieldmuseum.org.

SUPPLEMENTARY INFORMATION: Notice is here given in accordance with the Native American Graves Protection and Repatriation Act (NAGPRA), 25 U.S.C. 3005, of the intent to repatriate a cultural item under the control of The Field Museum of Natural History, Chicago, IL, that meets the definition of an unassociated funerary object under 25 U.S.C. 3001.

This notice is published as part of the National Park Service's administrative responsibilities under NAGPRA, 25 U.S.C. 3003(d)(3). The determinations in this notice are the sole responsibility of the museum, institution, or Federal agency that has control of the Native American cultural item. The National Park Service is not responsible for the determinations in this notice.

History and Description of the Cultural Item

Sometime between 1893 and 1899, one cultural item was removed from the site of Payupki in Navajo County, AZ. It is unknown who excavated the item, but it ended up in the collection of Heinrich Voth and was bought by the Field Museum as part of a large accession of materials. Voth's field notes indicate that the item, a ceramic vase, was removed from a grave located one mile south of the site of Payupki, on the Hopi Reservation.

Voth's description of the provenience reasonably shows that the vase was removed from a grave. The item is affiliated with the Hopi Tribe of Arizona based on academic literature, oral traditional information, and consultation with the Hopi Tribe of Arizona. (According to the notes of Charles Owen, a contemporary of Voth and an archeologist employed by the Field Museum, the site of Payupki was founded in 1680 by people from the “Rio Grande district.” Based on academic literature and oral traditional information, these people were the ancestors of the Pueblo of Sandia, New Mexico. Although they lived at Payupki for a few generations, they subsequently returned to their place of origin.)

Determinations Made by The Field Museum of Natural History

Officials of The Field Museum of Natural History have determined that:

• Pursuant to 25 U.S.C. 3001(3)(B), the one cultural item described above is reasonably believed to have been placed with or near individual human remains at the time of death or later as part of the death rite or ceremony and is believed, by a preponderance of the evidence, to have been removed from a specific burial site of a Native American individual.

• Pursuant to 25 U.S.C. 3001(2), there is a relationship of shared group identity that can be reasonably traced between the unassociated funerary object and the Hopi Tribe of Arizona.

Additional Requestors and Disposition

Lineal descendants or representatives of any Indian Tribe or Native Hawaiian organization not identified in this notice that wish to claim this cultural item should submit a written request with information in support of the claim to Helen Robbins, Director of Repatriation, The Field Museum, 1400 S Lake Shore Drive, Chicago, IL 60605, telephone (312) 665-7317, email hrobbins@fieldmuseum.org, by January 10, 2022. After that date, if no additional claimants have come forward, transfer of control of the unassociated funerary object to the Hopi Tribe of Arizona may proceed.

The Field Museum of Natural History is responsible for notifying the Hopi Tribe of Arizona that this notice has been published.

Dated: December 3, 2021.
Melanie O'Brien,
Manager, National NAGPRA Program.

[FR Doc. 2021-26783 Filed 12-9-21; 8:45 am]

BILLING CODE 4312-52-P